DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension for Exchange/Sale report, Excess Personal Property Furnished to Non-Federal Recipients, and Federal Automotive Statistical Tool, OMB Control 1910-1000. The proposed collection will cover information necessary to prepare and submit the annual property reports required by OMB Circular A-11.

DATES: Comments regarding this collection must be received on or before August 29, 2019. If you anticipate that you will be submitting comments, but find it difficult to do so within the period of time allowed by this notice, please advise the OMB Desk Officer of your intention to make a submission as soon as possible. The Desk Officer may be telephoned at (202) 395-4650.

ADDRESSES: Written comments should be sent to the DOE Desk Officer, Office of Information and Regulatory Affairs, Office of Management and Budget, New Executive Office Building, Room 10102, 735 17th Street NW, Washington, DC 20503. And to: Scott L. Whiteford, Director, Office of Asset Management, Suite 7056-950 L'Enfant, 1000 Independence Avenue SW, Washington, DC 20585-1615, scott.whiteford@hq.doe.gov.

FOR FURTHER INFORMATION CONTACT: Scott L. Whiteford, at the above address, or by telephone at (202) 287-1563, or by fax (202) 287-1656 scott.whiteford@hq.doe.gov.

Information for the Excess Personal Property Furnished to Non-Federal Recipients and the Exchange/Sale Report is collected using GSA's Personal Property Reporting Tool and can be found at the following link: https://www.property.reporting.gov/PPRT/PPRTLogin.

Information for the Federal Fleet Report is collected using the Federal Automotive Statistical Tool and can be found at the following link: https://fastweb.inl.gov/.

SUPPLEMENTARY INFORMATION: This information collection request contains:

(1) OMB No.: 1910-1000;

(2) Information Collection Request Title: Exchange/Sale Report, Excess Personal Property Furnished to Non-Federal Recipients, Federal Automotive Statistical Tool Report;

(3) Type of Request: Renewal;

(4) Purpose: The information being collected is data required in order to submit annual personal property reports as required by 41 CFR part 102 and the Office of Management and Budget. Respondents to this information collection request will be the Department of Energy's Management and Operating Contractors and other major site contractors;

(5) Annual Estimated Number of Respondents: 92 respondents for each of the three reports;

(6) Annual Estimated Number of Total Responses: 276 (92 respondents × 3 reports);

(7) Total Annual Estimated Number of Burden Hours: 2,024. A breakout of the burden hours for each report is listed below:

○ Exchange/Sales is estimated at 2 hours for each of the 92 respondents for a total of 184 burden hours

○ Non-Federal Recipient Report is estimated at 2 hours for each of the 92 respondents for a total of 184 burden hours

○ Federal Automotive Statistical Tool is estimated at 18 hours for each of the 92 respondents for a total of 1,656 burden hours.

(8) Annual Estimated Reporting and Recordkeeping Cost Burden: $216,568:

Statutory Authority: (A) 41 CFR 102-39.85, (B) 41 CFR 102-36.295 and 102-36.300, (C) OMB Circular A-11 section 25.5, (D) 41 CFR 102-34.335.

Signed in Washington, DC, on July18, 2019.
Scott L. Whiteford,
Director, Office of Asset Management.

[FR Doc. 2019-16161 Filed 7-29-19; 8:45 am]

BILLING CODE 6450-01-P